DEPARTMENT OF HEALTH AND HUMAN SERVICES

Centers for Disease Control and Prevention

Healthcare Infection Control Practices Advisory Committee; Cancellation of Meeting

AGENCY: Centers for Disease Control and Prevention (CDC), Department of Health and Human Services (HHS).

ACTION: Notice.

SUMMARY: This is to notify the public that the June 6-7, 2024, meeting of the Healthcare Infection Control Practices Advisory Committee is cancelled.

FOR FURTHER INFORMATION CONTACT: Sydnee Byrd, M.P.A., Healthcare Infection Control Practices Advisory Committee, Division of Healthcare Quality Promotion, National Center for Emerging and Zoonotic Infectious Diseases, Centers for Disease Control and Prevention, 1600 Clifton Road NE, Mailstop H16-3, Atlanta, Georgia 30329-4027. Telephone: (404) 718-8039; Email: hicpac@cdc.gov.

SUPPLEMENTARY INFORMATION: Notice is hereby given of a change in the meeting of the Healthcare Infection Control Practices Advisory Committee (HICPAC). The meeting was announced in the Federal Register on April 29, 2024 (89 FR 33353). This meeting is being canceled in its entirety.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-12334 Filed 6-4-24; 8:45 am]

BILLING CODE 4163-18-P